DEPARTMENT OF HEALTH AND HUMAN SERVICES

Centers for Disease Control and Prevention

[30 Day-04-OC]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210 or send an e-mail to omb@cdc.gov. Send written comments to CDC Desk Officer, Human Resources and Housing Branch, New Executive Office Building, Room 10235, Washington, DC 20503 or by fax to (202) 395-6974. Written comments should be received within 30 days of this notice.

Proposed Project

Survey Development: Child Stress and Toxics (Pediatric Environmental Perception Scale)—New—The Agency for Toxic Substances and Disease Registry (ATSDR). ATSDR is mandated pursuant to the 1980 Comprehensive Environmental Response, Compensation, and Liability Act (CERCLA) and its 1986 amendments, the Superfund Amendments and Reauthorization Act (SARA), to serve the public by using the best science, taking responsive public health actions, and providing trusted health information to prevent harmful exposures and disease related to toxic substances.

For the past 6 years, ATSDR has worked with the U.S. Environmental Protection Agency (EPA), the Substance Abuse and Mental Health Services Administration (SAMSHA), state health departments, and local communities on the issue of psychosocial stress due to the presence of toxic hazards. A significant amount of research has focused on adult psychosocial stress in communities affected by hazardous substances. Comparatively little is known about levels of psychosocial stress among children or other susceptible populations in these settings. There is a critical need to develop a research instrument to screen children who live in communities at or near hazardous waste sites for elevated stress levels. The instrument will facilitate the establishment of group norms for levels of stress in children and is not intended to provide clinical or diagnostic information on individual children.

The purpose of this project is to: (1) Develop and pilot-test a scale to assess levels and sources of psychosocial stress in children who live in communities at or near hazardous waste sites; (2) modify the scale based on pilot-test results; (3) validate the scale on children living in communities near hazardous waste sites; and (4) provide an evidence base for planning and conducting interventions in affected communities.

CDC will pilot test the scale on at least 50 children in two age groups (6th and 8th grade levels) at one or more test sites. Semi-structured interviews or focus groups will be conducted to determine whether additional variables need to be included in the scale. During the second and third phases of the project, a scale will be used to screen up to 4,950 children in communities at or near hazardous waste sites. CDC plans to then use this data to create effective interventions methods to predict and explain levels of stress in children living around hazardous waste sites. The estimated annualized burden is 825 hours; there are no costs to respondents.

Respondents | Number of respondents | Number of responses/ respondent | Average burden/ response (in hours)
Children 10-17 years old—Phase I | 50 | 1 | 40/60
Children 10-17 years old—Phase II | 200 | 1 | 20/60
Children 10-17 years old—Phase III | 4,750 | 1 | 30/60

Dated: August 13, 2004.
Alvin Hall,
Director, Management Analysis and Services Office, Centers for Disease Control and Prevention.

[FR Doc. 04-19424 Filed 8-24-04; 8:45 am]

BILLING CODE 4163-18-M